DEPARTMENT OF LABOR

Employment and Training Administration

[TA-W-64,858]

Wabash Alloys, LLC, a Subsidiary of Aleris International, Inc., Tipton, IN; Notice of Negative Determination Regarding Application for Reconsideration

By application dated March 17, 2009, United Steelworkers of America, Local 2958 requested administrative reconsideration of the Department's negative determination regarding eligibility to apply for Trade Adjustment Assistance (TAA), applicable to workers and former workers of the subject firm. The denial notice was signed on February 6, 2009 and published in the Federal Register on March 3, 2009 (74 FR 9283).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The initial investigation resulted in a negative determination which was based on the finding that Wabash Alloys, LLC, a subsidiary of Aleris International, Inc., Tipton, Indiana did not supply component parts to a primary firm whose workers were certified eligible to apply for trade adjustment assistance. Furthermore, the investigation also determined that imports of aluminum alloys did not contribute importantly to worker separations at the subject plant nor was there a shift of production to a country during the relevant period.

In the request for reconsideration the petitioner alleged that the subject firm supplied aluminum alloys to a customer which is under current certification.

For certification on the basis of the workers' firm being a secondary upstream supplier, the subject firm must produce component parts to a firm which received certification of eligibility for TAA as a primary impacted firm. The Department has reviewed the record and determined that the customer to which the subject firm supplied components was not certified as a primary firm but was certified for TAA on the basis of a secondary impact.

The petitioner did not supply facts not previously considered; nor provide additional documentation indicating that there was either (1) a mistake in the determination of facts not previously considered or 2) a misinterpretation of facts or of the law justifying reconsideration of the initial determination.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed in Washington, DC, this 24th day of March 2009.
Elliott S. Kushner,
Certifying Officer, Division of Trade Adjustment Assistance.

[FR Doc. E9-7803 Filed 4-6-09; 8:45 am]

BILLING CODE 4510-FN-P